DEPARTMENT OF VETERANS AFFAIRS

[OMB Control No. 2900-0208]

Agency Information Collection Activity: Department of Veterans Affairs Acquisition Regulation; Architect-Engineer Fee Proposal; Contractor Production Report; Daily Log and Contract Progress Report

AGENCY: The Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 6, 2018.

ADDRESSES: Submit written comments on the collection of information through Federal Docket Management System (FDMS) at www.Regulations.gov or to Rafael Taylor, Office of Acquisition and Logistics (003A2A), Department of Veterans Affairs, 810 Vermont Avenue NW, Washington, DC 20420 or email to Rafael.Taylor@va.gov. Please refer to “OMB Control No. 2900-0208” in any correspondence. During the comment period, comments may be viewed online through FDMS.

FOR FURTHER INFORMATION CONTACT: Cynthia Harvey-Pryor at (202) 461-5870.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM functions, including whether the information will have practical utility; (2) the accuracy of OM estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Department of Veterans Affairs Acquisition Regulation (VAAR): VA Form 6298 (formerly 10-6298), Architect-Engineer Fee Proposal; VA Form 10101, Contractor Production Report (formerly VA Form 10-6131, Daily Log and VA Form 10-6001a, Contract Progress Report).

OMB Control Number: 2900-0208.

Type of Review: Renewal with changes of a currently approved collection.

Abstract: This Paperwork Reduction Act (PRA) submission seeks renewal with changes of Office of Management and Budget (OMB) approval No. 2900-0208 as follows:

• Replace both existing VA forms 10-6131 (Daily Log (Contract Progress Report—Formal Contract)) and 10-6001a (Contract Progress Report) with one new form, which combines the intended purpose for VA Form 10-6131 and VA Form 10-6001a. The new combined form is now read: “VA Form 10101, Contractor Production Report.”

• Renumber VA Form 10-6298 Architect-Engineer Fee Proposal, to “VA Form 6298,” and revise the contents in the form with updated thresholds and FAR citations.

The above proposed revisions do not change the currently approved burden hours. The actual VA forms 10101 and 6298 can be located at VA Forms website (http://vaww.va.gov/vaforms/.)

The Department of Veterans Affairs' Office of Construction and Facilities Management (CFM) manage a multi-million-dollar construction program that involves the design and construction of medical centers, and other VA facilities including building improvements and conversions. The actual construction work is contracted out to private construction firms.

VA Form 6298 (formerly 10-6298), Architect-Engineer Fee Proposal: The use of this form is mandatory for obtaining the proposal and supporting cost or pricing data from the contractor and subcontractor in the negotiation of all architect-engineer contracts for design services when the contract price is estimated to be $50,000 or more. In obtaining architect-engineer services for research study, seismic study, master planning study, construction management and other related services contracts. A Contractor Production Report is also used but supplemented or modified as needed for the particular project type. (VA Acquisition Regulation 836.606-71, Architect-engineer's proposal, and VAAR 853.236-70.)

VA Form 10101, Contractor Production Report (formerly VA Form 10-6131), Daily Log—Formal Contract, and VA Form 10-6001a, Contract Progress Report, depending on the size of the contract: Is used to record the data necessary to ensure the contractor provides sufficient labor and materials to accomplish the contract work. Contractors are required to guarantee the performance of the work necessary to complete the project. VAAR 852.236-79 details what needs to be addressed by the contractor on the Contractor Production Report. Failure to complete Contractor Production Report could result in a claim for non-performance and construction delays against the Government if we were unable to collect this information to administer the contract.

Affected Public: Business or other for-profit and not-for-profit institutions.

Estimated Annual Burden: VA Form 6298—1,000 Burden Hours. VA Form 10101—4,341 Burden Hours.

Estimated Average Burden per Respondent: VA Form 6298—4 Hours. VA Form 10101—24 Minutes.

Frequency of Response: On occasion.

Estimated Number of Respondents: VA Form 6298—250. VA Form 10101—10,853.

By direction of the Secretary.
Cynthia D. Harvey-Pryor,
Department Clearance Officer, Office of Quality, Privacy and Risk, Department of Veterans Affairs.

[FR Doc. 2018-19400 Filed 9-6-18; 8:45 am]

BILLING CODE 8320-01-P